DEPARTMENT OF AGRICULTURE

Submission for OMB Review; Comment Request

May 21, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by June 25, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Agricultural Resource Management, Chemical Use, and Post-Harvest Chemical Use Surveys.

OMB Control Number: 0535-0218.

Summary of Collection: The primary functions of the National Agricultural Statistics Service (NASS) are to prepare and issue State and national estimates of crop and livestock production, disposition, and prices and to collect information on related environmental and economic factors. Detailed economic and environmental data for various crops and livestock help to maintain a stable economic atmosphere and reduce the risk for production, marketing, and distribution operations. The Agricultural Resource Management Surveys (ARMS), are the primary source of information for the U.S. Department of Agriculture on a broad range of issues related to agricultural resource use, cost of production, and farm sector financial conditions. NASS uses a variety of survey instruments to collect the information in conjunction with these studies. General authority for these data collection activities is granted under U.S. Code Title 7, Section 2204.

Need and Use of the Information: ARMS is the only annual source of whole farm information available for objective evaluation of many critical issues related to agriculture and the rural economy, such as: Whole farm finance data, marketing information, input usage, production practices, and crop substitution possibilities. Without these data, decision makers cannot analyze and report on critical issues that affect farms and farm households when pesticide regulatory actions are being considered.

Description of Respondents: Farms; Business or other for-profit.

Number of Respondents: 131,619.

Frequency of Responses: Reporting: Annually.

Total Burden Hours: 105,615.

National Agricultural Statistics Service

Title: Irrigation and Water Management Survey (IWMS).

OMB Control Number: 0535-0234.

Summary of Collection: The Irrigation and Water Management Survey (IWMS) is a reinstatement of a previously conducted survey (2013 Farm and Ranch Irrigation Survey). The IWMS is a follow-on survey and in integral part of the 2017 Census of Agriculture which is conducted every five years under the authority of the Census of Agriculture Act of 1997 (Pub. L. 105-113). This law requires the Secretary of Agriculture to conduct a census of agriculture beginning in 2002 and every fifth year thereafter (prior to 1997 the census was conducted by the Department of Commerce). The 2018 IWMS will be obtaining data describing the irrigation activities of U.S. farm operations. Some of these activities are of National concern, such as the use of chemigation, fertigation and water-conserving practices of irrigators. The 2018 IWMS will play an important part in providing critically needed data to address these types of issues.

Need and Use of the Information: NASS will collect information from the IWMS on acres irrigated by land use category, acres and yields of irrigated and non-irrigated crops, quantity of water applied, method of application to selected crops, acres irrigated, quantity of water used by source, acres irrigated by type of water distribution systems, and number of irrigation wells and pumps. The primary purpose of IWMS is to provide detailed data relating to on-farm irrigation activities for use in preparing a wide variety of water-related local programs, economic models, legislative initiatives, market analyses, and feasibility studies. The absence of the study data would certainly affect irrigation policy decisions, federal programs, legislation, and impact studies would instead be subject to greater uncertainty and error.

Description of Respondents: Farms; Business or other for-profit.

Number of Respondents: 35,100.

Frequency of Responses: Reporting: Other (one-time).

Total Burden Hours: 25,577.

Ruth Brown,
Departmental Information Collection Clearance Officer.

[FR Doc. 2018-11214 Filed 5-24-18; 8:45 am]

BILLING CODE 3410-20-P